FEDERAL COMMUNICATIONS COMMISSION

47 CFR Part 73

[DA No. 00-2016; MM Docket No. 99-336; RM-9758]

Radio Broadcasting Services; Rocksprings, TX

AGENCY: Federal Communications Commission.

ACTION: Final rule.

SUMMARY: This document allots Channel 223A at Rocksprings, Texas, in response to a petition filed by Rocksprings Radio Broadcasting Company. See 64 FR 68663, December 8, 1999. The coordinates for Channel 223A at Rocksprings are 30-05-18 NL and 100-18-02 WL. There is a site restriction 11.9 kilometers (7.4 miles) northwest of the community. Although Mexican concurrence has been requested for Channel 223A at Rocksprings, final notification from Mexico has not been received. Therefore, operation with the facilities specified for Rocksprings herein is subject to modification, suspension, or termination without hearing, if found by the Commission to be necessary in order to conform to the 1992 USA-Mexico FM Broadcast Agreement or if specifically objected to by Mexico. A filing window for Channel 223A at Rocksprings will not be opened at this time. Instead, the issue of opening a filing window for this channel will be addressed by the Commission in a subsequent order.

DATES: Effective October 16, 2000.

ADDRESSES: Federal Communications Commission, Washington, DC 20554.

FOR FURTHER INFORMATION CONTACT: Kathleen Scheuerle, Mass Media Bureau, (202) 418-2180.

SUPPLEMENTARY INFORMATION: This is a summary of the Commission's Report and Order, MM Docket No. 99-336, adopted August 23, 2000, and released September 1, 2000. The full text of this Commission decision is available for inspection and copying during normal business hours in the Commission's Reference Center, 445 12th Street, SW, Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

PART 73—[AMENDED]

1. The authority citation for Part 73 continues to read as follows:

Authority: 47 U.S.C. 154, 303, 334 and 336.

§ 73.202 [Amended]

2. Section 73.202(b), the Table of FM Allotments under Texas, is amended by adding Channel 223A at Rocksprings.\1\

¹ The community of Rocksprings, Texas, was added to the FM Table of Allotments in MM Docket No. 99-214. See 65 FR 35588, June 5, 2000.

Federal Communications Commission.
John A. Karousos,
Chief, Allocations Branch, Policy and Rules Division, Mass Media Bureau.

[FR Doc. 00-23695 Filed 9-14-00; 8:45 am]

BILLING CODE 6712-01-P